DEPARTMENT OF COMMERCE

International Trade Administration

(A-557-809)

Stainless Steel Butt-Weld Pipe Fittings From Malaysia: Notice of Rescission of Antidumping Duty Administrative Review

AGENCY: Import Administration, International Trade Administration, Department of Commerce.

EFFECTIVE DATE: July 20, 2006.

FOR FURTHER INFORMATION CONTACT: Maisha Cryor or Mark Manning, AD/CVD Operations, Office 4, Import Administration, International Trade Administration, U.S. Department of Commerce, 14th Street and Constitution Avenue, NW, Washington, DC 20230; telephone: (202) 482-5831 or (202) 482-5253, respectively.

SUPPLEMENTARY INFORMATION:

Background

On February 1, 2006, the Department of Commerce (the Department) published in the Federal Register a notice of “Opportunity To Request Administrative Review” of the antidumping duty order on stainless steel butt-weld pipe fittings from Malaysia for the period February 1, 2005, through January 31, 2006. See Antidumping or Countervailing Duty Order, Finding, or Suspended Investigation; Opportunity To Request Administrative Review, 71 FR 5239 (February 1, 2006). On February 28, 2006, Sapura-Schulz Hydroforming Sdn. Bhd. (Sapura-Schulz), requested an administrative review of its sales for the above-mentioned period. On February 28, 2006, the petitioners¹ requested an administrative review of the sales for the above-mentioned period made by Kanzen Tetsu Sdn. Bhd. (Kanzen) and Sapura-Schulz. On April 5, 2006, the Department published a notice of initiation of an administrative review of the antidumping duty order on stainless steel butt-weld pipe fittings from Malaysia with respect to Sapura-Schulz and Kanzen. See Initiation of Antidumping and Countervailing Duty Administrative Reviews and Deferral of Administrative Reviews, 71 FR 25145 (April 5, 2006).

¹ The petitioners in this segment of the proceeding are: Flowline Division of Markovitz Enterprises, Inc.; Gerlin, Inc.; Shaw Alloy Piping products, Inc.; and Taylor Forge Stainless, Inc. (collectively, the petitioners).

Rescission of Review

On June 19, 2006, Sapura-Schulz and the petitioners simultaneously withdrew their requests for an administrative review of the sales made by Sapura-Schulz during the above-referenced period. Consequently, the Department partially rescinded the review with respect to Sapura-Schulz. See Stainless Steel Butt-Weld Pipe Fittings From Malaysia: Notice of Partial Rescission of Antidumping Duty Administrative Review, 71 FR 34304 (July 12, 2006).

On July 5, 2006, the petitioners withdrew their request for an administrative review of sales made by Kanzen. Section 351.213(d)(1) of the Department's regulations requires that the Secretary rescind an administrative review if a party requesting a review withdraws the request within 90 days of the date of publication of the notice of initiation. In this case, the petitioners have withdrawn their request for a review of Kanzen within the 90-day period. We have received no other submissions regarding the withdrawals of the requests for review. Therefore, we are rescinding this review of the antidumping duty order on stainless steel butt-weld pipe fittings from Malaysia.

Assessment

The Department will instruct U.S. Customs and Border Protection (CBP) to assess antidumping duties on all appropriate entries. For those companies for which this review is rescinded, antidumping duties shall be assessed at rates equal to the cash deposit of estimated antidumping duties required at the time of entry, or withdrawal from warehouse, for consumption, in accordance with 19 CFR 351.212(c)(1)(i).

The Department will issue appropriate assessment instructions directly to CBP within 15 days of publication of this notice.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 751 of the Tariff Act of 1930, as amended, and 19 CFR 351.213(d)(4).

Dated: July 14, 2006.
Stephen J. Claeys,
Deputy Assistant Secretary for Import Administration.

[FR Doc. E6-11551 Filed 7-19-06; 8:45 am]

BILLING CODE 3510-DS-S